DEPARTMENT OF TRANSPORTATION

Federal Aviation Administration

Proposed Modification of the Atlanta, GA, Class B Airspace Area; Public Meetings

AGENCY: Federal Aviation Administration (FAA), DOT.

ACTION: Notice of meetings; correction.

SUMMARY: This action corrects an error in the notice of meetings published in the Federal Register on Friday, December 4, 2009, concerning a proposal to revise Class B airspace at Atlanta, GA, (74 FR 63818). In that notice, the address and phone number for the meeting scheduled for Thursday, February 25, 2010 in Covington, GA, was incorrect. The meeting information for the other three meetings is correct as originally published.

FOR FURTHER INFORMATION CONTACT: Mike Richardson, Support Manager, Atlanta TRACON, 784 South Highway 74, Peachtree City, GA; telephone: 678-364-6306.

SUPPLEMENTARY INFORMATION:

History

On Friday, December 4, 2009, a notice of meetings was published in the Federal Register concerning a proposal to revise Class B airspace at Atlanta, GA, (74 FR 63818). The address and phone number for the meeting scheduled for Thursday, February 25, 2010, in Covington, GA was incorrect. This action corrects that error.

For information regarding submittal of comments, meeting procedures, and agenda, please reference the notice of meetings published on Friday, December 4, 2009.

Correction to Notice

Accordingly, the address and phone number for the informal airspace meeting scheduled for February 25, 2010, in Covington, GA, as published in the Federal Register on Friday, December 4, 2009 (74 FR 63818), FR Doc. E9-28900 on page 63818, second column, is corrected as follows:

* * * * *

The meeting on Thursday, February 25, 2010, will be held at the City of Covington City Hall, 2194 Emory Street NW., Covington, GA 30014 [Call 770-385-2010 for directions].

* * * * *

Issued in Washington, DC, on January 8, 2010.
Edith V. Parish,
Manager, Airspace and Rules Group.

[FR Doc. 2010-724 Filed 1-14-10; 8:45 am]

BILLING CODE 4910-13-P